DEPARTMENT OF STATE

[Public Notice 8343]

60-Day Notice of Proposed Information Collection: Application for A, G, or NATO Visa

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to July 30, 2013.

ADDRESSES: You may submit comments by any of the following methods:

• Web: Persons with access to the Internet may use the Federal Docket Management System (FDMS) to comment on this notice by going to www.Regulations.gov. You can search for the document by entering “Public Notice 8343” in the Search bar. If necessary, use the Narrow by Agency filter option on the Results page.

• Email: PRA_BurdenComments@state.gov.

• Mail: Chief, Legislation and Regulations Division, Visa Services Office—DS-1648, 2401 E Street NW., Washington, DC 20520-30106.

You must include the DS form number (if applicable), information collection title, and the OMB control number in any correspondence.

FOR FURTHER INFORMATION CONTACT: Direct requests for additional information regarding the collection listed in this notice, including requests for copies of the proposed collection instrument and supporting documents, to Sydney Taylor, Visa Services, U.S. Department of State, 2401 E Street NW., L-603, Washington, DC 20522, who may be reached at PRA_BurdenComments@state.gov.

SUPPLEMENTARY INFORMATION:

• Title of Information Collection: Application for A, G, or NATO Visas.

• OMB Control Number: OMB No. 1405-0100.

• Type of Request: Extension of a Currently Approved Collection.

• Originating Office: CA/VO/L/R.

• Form Number: DS-1648.

• Respondents: All applicants for A, G, or NATO visa reauthorizations, excluding A-3, G-5 and NATO-7 applicants.

• Estimated Number of Respondents: 30,000.

• Estimated Number of Responses: 30,000.

• Average Time per Response: 30 minutes.

• Total Estimated Burden Time: 15,000 hours.

• Frequency: Once per application.

• Obligation to Respond: Required to Obtain Benefit.

We are soliciting public comments to permit the Department to:

• Evaluate whether the proposed information collection is necessary for the proper functions of the Department.

• Evaluate the accuracy of our estimates of the time and cost burdens for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: Under INA section § 101(a)(15)(G) and INA section § 101(a)(15)(A), the Department of State can use Form DS-1648 to elicit information from applicants for a renewal of A, G, or NATO visas, excluding A-3, G-5 and NATO-7 applicants.

Methodology: The DS-1648 will be submitted electronically to the Department via the internet. The applicant will be instructed to print a confirmation page containing a bar coded record locator, which will be scanned at the time of processing.

Dated: May 14, 2013.
Edward Ramotowski,
Deputy Assistant Secretary, Bureau of Consular Affairs, Department of State.

[FR Doc. 2013-12938 Filed 5-30-13; 8:45 am]

BILLING CODE 4710-06-P